FEDERAL COMMUNICATIONS COMMISSION

47 CFR Part 64

[WC Docket No. 13-39; Report No. 3098]

Petitions for Reconsideration of Action in Rulemaking Proceeding

AGENCY: Federal Communications Commission.

ACTION: Petitions for Reconsideration.

SUMMARY: Petitions for Reconsideration (Petitions) have been filed in the Commission's Rulemaking proceeding by Michael R. Romano, on behalf of NTCA—The Rural Broadband Association (“NTCA”), and Kevin G. Rupy, on behalf of USTelecom—The Broadband Association.

DATES: Oppositions to the Petition must be filed on or before August 2, 2018. Replies to an opposition must be filed on or before August 13, 2018.

ADDRESSES: Federal Communications Commission, 445 12th Street SW, Washington, DC 20554.

FOR FURTHER INFORMATION CONTACT: Zach Ross, Wireline Competition Bureau, at: (202) 418-1580; email: Zachary.Ross@fcc.gov.

SUPPLEMENTARY INFORMATION: This is a summary of the Commission's document, Report No. 3098, released July 2, 2018. The full text of the Petitions is available for viewing and copying at the FCC Reference Information Center, 445 12th Street SW, Room CY-A257, Washington, DC 20554. It also may be accessed online via the Commission's Electronic Comment Filing System at: http://apps.fcc.gov/ecfs/. The Commission will not send a Congressional Review Act (CRA) submission to Congress or the Government Accountability Office pursuant to the CRA, 5 U.S.C. because no rules are being adopted by the Commission.

Subject: Rural Call Completion, Second Report and Order, FCC 18-45, published at 83 FR 21723, May 10, 2018, in WC Docket No. 13-39. This document is being published pursuant to 47 CFR 1.429(e). See also 47 CFR 1.4(b)(1) and 1.429(f), (g).

Number of Petitions Filed: 2.

Federal Communications Commission.
Marlene Dortch,
Secretary, Office of the Secretary.

[FR Doc. 2018-14859 Filed 7-17-18; 8:45 am]

BILLING CODE 6712-01-P